DEPARTMENT OF AGRICULTURE

Food and Nutrition Service

Agency Information Collection Activities: Proposed Collection; Comment Request—Supplemental Nutrition Assistance Program Education (SNAP-Ed) Toolkit Intervention Submission Form and Scoring Tool

AGENCY: Food and Nutrition Service (FNS), USDA.

ACTION: Notice.

SUMMARY: In accordance with the Paperwork Reduction Act of 1995, this notice invites the general public and other public agencies to comment on a proposed information collection, which will use two new forms.

The purpose of the SNAP-Ed Toolkit Intervention Submission Form and Scoring Tool is to provide a uniform and transparent method for submission, review, and scoring of nutrition education, physical activity promotion, and obesity prevention interventions for possible inclusion in the SNAP-Ed Strategies and Interventions: An Obesity Prevention Toolkit for States (Toolkit). The Toolkit was developed to assist State agencies in locating evidence-based interventions for their implementation of SNAP-Ed programming. The Food and Nutrition Act of 2008, as amended (The Act) § 28(c)(3)(A) requires that States use evidence-based interventions. These forms will allow FNS to increase the selection of interventions available in the Toolkit, increase innovation in service delivery using interventions which reflect up-to-date research, and respond to intervention developer requests to be included in the Toolkit.

DATES: Written comments must be submitted on or before September 26, 2017.

ADDRESSES: Comments are invited on: (a) Whether the proposed collection of information is necessary for the proper performance of the functions of the agency, including whether the information has practical utility; (b) the accuracy of the agency's estimate of the burden hours, including the validity of the methodology and assumptions that were used; (c) ways to enhance the quality, utility, and clarity of the information to be collected; and (d) ways to minimize the burden of the collection of information on those who are to respond, including through the use of appropriate automated, electronic, mechanical or other technological collection techniques or other forms of information technology.

Comments may be sent to Lisa Mays, State Administration Branch, Program Accountability and Administration Division, Supplemental Nutrition Assistance Program, U.S. Department of Agriculture, Food and Nutrition Service, 3101 Park Center Drive, Room 821, Alexandria, VA 22302. Comments may also be submitted via fax to the attention of Lisa Mays at 703-457-7762, or via email to SNAP-Ed@fns.usda.gov. Comments will also be accepted through the Federal eRulemaking Portal. Go to http://www.regulations.gov and follow the online instructions for submitting comments electronically.

All written comments will be open for public inspection at the office of the Food and Nutrition Service during regular business hours (8:30 a.m. to 5:00 p.m. Monday through Friday) at 3101 Park Center Drive, Room 821, Alexandria, Virginia 22302.

All responses to this notice will be summarized and included in the request for the Office of Management and Budget (OMB) approval. All comments will also be a matter of public record.

CONTACT FOR FURTHER INFORMATION: Requests for additional information should be directed to Lisa Mays at SNAP-Ed@fns.usda.gov.

SUPPLEMENTARY INFORMATION:

Title: SNAP Ed Toolkit Intervention Scoring Tool and Submission Form.

OMB Number: 0584-NEW.

Form Numbers: FNS-885 and FNS-886.

Expiration Date: TBD.

Type of Request: New information collection.

Abstract: SNAP-Ed State and Implementing agencies are able to identify and choose evidence-based interventions using the Toolkit. The Toolkit was developed collaboratively by FNS National and Regional Office SNAP-Ed staff, the National Collaborative on Childhood Obesity Reduction (NCCOR), and the Association of SNAP Nutrition Education Administrators (ASNNA). Currently, more than 80 interventions are available in the Toolkit (https://snapedtoolkit.org/). This new data collection for additional interventions to be reviewed for inclusion in the Toolkit is necessary to:

• Increase the selection available to agencies to allow them to find interventions that fit their specific needs.

• Increase innovation in service delivery by encouraging adoption of interventions which reflect the most up-to-date research of nutrition education, physical activity, and obesity prevention behavior change.

• Allow FNS to respond to requests by intervention developers to be included in the Toolkit with a clear and transparent review process and criteria for inclusion.

The Food and Nutrition Act of 2008, as amended (The Act) § 28(c)(3)(A) states that State agencies “may use funds provided under this section for any evidence-based allowable use of funds” including “(i) individual and group-based nutrition education, health promotion, and intervention strategies”. 7 CFR 272.2(2)(d) also states “SNAP-Ed activities must include evidence-based activities using one or more of these approaches: Individual or group-based nutrition education, health promotion, and intervention strategies; comprehensive, multi-level interventions at multiple complementary organizational and institutional levels; community and public health approaches to improve nutrition”. The Intervention Submission Form (FNS 886) and Scoring Tool (FNS 885) allows for interventions to be assessed to determine if they are both evidence-based and use one of the approaches described.

The Intervention Submission Form will be used by intervention developers (submitters) to provide information about the intervention they are submitting for inclusion in the Toolkit. Information requested includes intervention materials, how they have been and will be used, and the evidence base which illustrates their effectiveness. Information is collected through a combination of multiple-choice boxes and text response areas.

Submitters will be members of State or Implementing agencies, researchers from academic institutions and Federal agencies, such as the Economic Research Service (ERS), and non-profit or private sector nutrition education and physical activity intervention developers.

Submitters will be able to download, complete and submit the form at any time, although there will be an annual deadline for submission for the associated year's review. Download and submission will be through the SNAP-Ed Connection Web site (https://snaped.fns.usda.gov/). Completion is voluntary.

Submission Forms and attachments will be collected by FNS National Office SNAP-Ed staff and distributed to intervention reviewers (reviewers), who will use the Scoring Tool to help them determine if the intervention should be included in the Toolkit. The Scoring Tool rates the intervention according to the quality of materials, usefulness for SNAP-Ed, and effectiveness as demonstrated by the evidence base provided. Reviewers will be directly emailed the Intervention Scoring Tool. Numerical scores will be entered by reviewers as well as qualitative responses which clarify why an intervention was or was not included in the Toolkit. Information is collected through a combination of numerical and text entry fields.

Reviewers will be FNS National and Regional Office SNAP-Ed staff, nutrition program staff from other Federal agencies, such as Centers for Disease Control and Prevention (CDC), researchers from academic institutions, and SNAP-Ed State and Implementing agency staff.

The review period will occur annually, with reviewers completing the Scoring Tool and discussing inclusion in the Toolkit. Participation as a reviewer is voluntary, with completion of the Scoring Tool a mandatory component of review participation.

Affected Public: 8 State Agencies which operate the SNAP-Ed program and 82 local program operators (Business-for-not-for-profit) such as universities and non-profit organizations. Intervention developers may be SNAP-Ed State Agencies or local program operators, academic institutions not associated with SNAP-Ed, non-profit organizations, and private organizations who voluntarily complete the Intervention Submission Form. Members of FNS SNAP-Ed staff, federal employees from agencies such as CDC and NIH, as well as NCCOR or ASNNA members who may be employees of State Agencies or local program operators may voluntarily review interventions using the Intervention Scoring Tool.

Estimated Number of Respondents: 90.

Estimated Average Number of Responses per Respondent: 1.24242.

Estimated Total Annual Responses: 123.

Estimated Average Hours per Response: 3.46341.

Estimated Total Annual Burden Hours (Reporting Only): 426.

Estimated Total Annual Burden on Respondents: The estimated total reporting burden inventory for this collection is 400 hours. The Intervention Submission Form is expected to be completed once annually by 5 State Agencies and 52 local program operators (business-for-not-for-profit) for approximately 57 total annual responses annually. This form takes approximately 4 hours per respondent to complete for a total of 228 burden hours of reporting annually for this form. 20 hours of this burden will be applied to State Agencies while 208 hours will be applied to local program operators (business-for-not-for-profit). This burden estimate was developed by averaging the time provided by two pilot testers of the form, who used interventions currently available in the Toolkit to test the Intervention Submission Form. The Intervention Scoring Tool is expected to be completed twice by a predicted 22 local program operators (business-for-not-for-profit) and 3 State Agencies for a total 66 annual responses. This form takes 3 hours per respondent to complete, for a total of 198 reporting hours annually. 18 hours of this burden will be applied to State Agencies and 180 hours will be applied to local program operators (business-for-not-for-profit). This burden estimate was developed by averaging the time provided by three pilot testers of the form, who used information provided by the pilot testers of the Intervention Submission form to test the Intervention Scoring Tool.

There are no recordkeeping burden activities for these forms.

Table A.12-3—Summary Reporting Burden
Affected public | Respondent type | Form | Estimated number of respondents | Number of responses per respondent | Total annual responses | Estimated total hours per response | Estimated total burden
State, Local or Tribal Agencies | Intervention Submitters | Intervention Submission Form (FNS 886) | 5 | 1 | 5 | 4 | 20
State, Local, or Tribal Agencies | Intervention Reviewers | Scoring Tool (FNS 885) | 3 | 2 | 6 | 3 | 18
States Agency Sub-Total |  |  | 8 | 1.375 | 11 | 3.4545 | 38
Business-for-not-for-profit | Intervention Submitters | Intervention Submission Form (FNS 886) | 52 | 1 | 52 | 4 | 208
Business-for-not-for-profit | Intervention Reviewers | Scoring Tool (FNS 885) | 30 | 2 | 60 | 3 | 180
Business Sub-Total |  |  | 82 | 1.365 | 112 | 3.46428 | 388
Grand Total Reporting for Each Affected Public |  |  | 90 |  | 123 |  | 426

Dated: July 20, 2017.
Jessica Shahin,
Acting Administrator, Food and Nutrition Service.

[FR Doc. 2017-15899 Filed 7-27-17; 8:45 am]

BILLING CODE 3410-30-P